DEPARTMENT OF TRANSPORTATION

National Highway Traffic Safety Administration

[Docket No. NHTSA 2005-21858]

Performance of Advanced Crash Avoidance Systems; Request for Information

AGENCY: National Highway Traffic Safety Administration (NHTSA), Department of Transportation (DOT).

ACTION: Extension of comment period.

SUMMARY: NHTSA has received requests asking us to extend the comment period for the notice requesting information and expressions of interest in the research program on the performance of advanced crash avoidance systems. NHTSA is seeking information from all sources for its Advanced Crash Avoidance Technologies Program (ACAT). The ACAT program seeks to determine the safety impact of new and emerging technologies that are intended to help drivers avoid crashes, reduce their severity, and prevent injuries. To provide interested persons additional time to prepare comments, we are extending the end of the comment period from August 18, 2005, to September 30, 2005. This extension will allow interested persons additional time to provide information.

DATES: Responses to this announcement must be received by September 30, 2005.

ADDRESSES: You may submit comments identified by the DOT DMS Docket Number above by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590.

• Hand Delivery: Room PL-401 on the plaza level of the Nassif Building, 400 Seventh Street, SW., Washington, DC, between 9 a.m. and 5 p.m., Monday through Friday, except Federal holidays.

Note that all comments received will be posted without change to http://dms.dot.gov, including any personal information provided. Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Raymond Resendes, Office of Vehicle Safety Research, NHTSA, NVS-332, 400 Seventh Street, SW., Washington, DC 20590; telephone: (202) 366-2619, fax: (202) 366-7237.

SUPPLEMENTARY INFORMATION: On July 19, 2005, NHTSA published in the Federal Register (70 FR 41474) a notice requesting information and expressions of interest in the agency's ACAT research program to study the effectiveness of advanced technologies in reducing crashes and their severities. For additional information on the ACAT research program and on the information requested from interested persons, please refer to that notice.

Issued on: August 3, 2005.
Joseph N. Kanianthra,
Associate Administrator for Vehicle Safety Research.

[FR Doc. 05-15614 Filed 8-5-05; 8:45 am]

BILLING CODE 4910-59-U